DEPARTMENT OF TRANSPORTATION

Federal Aviation Administration

14 CFR Part 39

[Docket No. FAA-2011-0304; Directorate Identifier 2010-NM-103-AD; Amendment 39-17095; AD 2012-12-15]

RIN 2120-AA64

Airworthiness Directives; The Boeing Company Airplanes

AGENCY: Federal Aviation Administration (FAA), DOT.

ACTION: Final rule.

SUMMARY: We are superseding an existing airworthiness directive (AD) for The Boeing Company Model 757 Airplanes. That AD currently requires revising the Airworthiness Limitations (AWLs) section of the Instructions for Continued Airworthiness by incorporating new limitations for fuel tank systems to satisfy Special Federal Aviation Regulation No. 88 requirements. That AD also requires the initial inspection of certain repetitive AWL inspections to phase-in those inspections, and repair if necessary. This new AD requires actions that were provided previously as optional actions, and would require a certain initial inspection to be accomplished for a revised AWL. This AD was prompted by a report that an AWL required by the existing AD must be revised. We are issuing this AD to prevent the potential for ignition sources inside fuel tanks caused by latent failures, alterations, repairs, or maintenance actions, which, in combination with flammable fuel vapors, could result in a fuel tank explosion and consequent loss of the airplane.

DATES: This AD is effective August 27, 2012.

The Director of the Federal Register approved the incorporation by reference of certain publications listed in the AD as of August 27, 2012.

The Director of the Federal Register approved the incorporation by reference of a certain other publication listed in this AD as of June 12, 2008 (73 FR 25974, May 8, 2008).

ADDRESSES: For service information identified in this AD, contact Boeing Commercial Airplanes, Attention: Data & Services Management, P.O. Box 3707, MC 2H-65, Seattle, Washington 98124-2207; telephone 206-544-5000, extension 1; fax 206-766-5680; Internet https://www.myboeingfleet.com. You may review copies of the referenced service information at the FAA, Transport Airplane Directorate, 1601 Lind Avenue SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Tak Kobayashi, Aerospace Engineer, Propulsion Branch, ANM-140S, FAA, Seattle Aircraft Certification Office, 1601 Lind Avenue SW., Renton, Washington 98057-3356; phone: 425-917-6499; fax: 425-917-6590; email: takahisa.kobayashi@faa.gov.

SUPPLEMENTARY INFORMATION:

Discussion

We issued a notice of proposed rulemaking (NPRM) to amend 14 CFR part 39 to supersede airworthiness directive (AD) AD 2008-10-11, Amendment 39-15517 (73 FR 25974, May 8, 2008). That AD applies to the specified products. The NPRM published in the Federal Register on April 8, 2011 (76 FR 19710). That NPRM proposed to continue to require revising the Airworthiness Limitations (AWLs) section of the Instructions for Continued Airworthiness by incorporating new limitations for fuel tank systems to satisfy Special Federal Aviation Regulation No. 88 requirements, and the initial inspection of certain repetitive AWL inspections to phase-in those inspections, and repair if necessary. That NPRM also proposed to require actions that were provided previously as optional actions, and would require a certain initial inspection to be accomplished for a revised AWL.

Comments

We gave the public the opportunity to participate in developing this AD. We have considered the comments received. Boeing supports the NPRM (76 FR 19710, April 8, 2011).

Request To Refer to the Most Recent Revision of Service Information

United Airlines (UAL) requested that paragraph (l) of the NPRM (76 FR 19710, April 8, 2011) be revised to allow use of Boeing Temporary Revision (TR) 09-010, dated July 2010, to Section 9, “Airworthiness Limitations (AWLs) and Certification Maintenance Requirements (CMRs),” of the Boeing 757 Maintenance Planning Data (MPD) Document, D622N001-9; or Boeing TR 09-011, dated November 2010, to Section 9, “Airworthiness Limitations (AWLs) and Certification Maintenance Requirements (CMRs),” of the Boeing 757 MPD Document, D622N001-9; to comply with the proposed requirements of that paragraph.

We infer that the commenter would like the AD to reference the current revision of the service information. We agree to revise this AD to refer to the most recent revision. We have revised paragraph (k) of this AD (paragraph (l) of the NPRM (76 FR 19710, April 8, 2011), and also paragraphs (h), (l), (m), and (n) of this AD (paragraphs (h), (m), (n), and (o) of the NPRM, respectively) to reference Boeing TR 09-011, dated November 2010, to Section 9, “Airworthiness Limitations (AWLs) and Certification Maintenance Requirements (CMRs),” of the Boeing 757 MPD Document, D622N001-9.

Request To Allow Use of Later Revisions to Certain Service Information

UAL requested that additional revisions of service information be included in paragraphs (s) and (t) of the NPRM (76 FR 19710, April 8, 2011). UAL noted in particular, the MPD revisions approved by the ACO after publication of AD 2008-10-11, Amendment 39-15517 (73 FR 25974, May 8, 2008). Since paragraphs (g), (h), and (i) of AD 2008-10-11 allow the use of a later revision of the MPD that is approved by the Seattle ACO without requesting an alternative method of compliance (AMOC), UAL believed that operators that used those later revisions after publication of AD 2008-10-11, without an AMOC, for the actions required by paragraphs (g), (h), and (i) of that AD would be in violation of the NPRM because they would not receive credit for using those revisions.

We agree that for paragraph (h) of this AD (the restated actions of AD 2008-10-11, Amendment 39-15517 (73 FR 25974, May 8, 2008)), the following revisions of the MPD are acceptable. Section 9, “Airworthiness Limitations (AWLs) and Certification Maintenance Requirements (CMRs),” of the Boeing 757 MPD Document, D622N001-9, Revision December 2008; Boeing TR 09-010, dated July 2010, to Section 9, “Airworthiness Limitations (AWLs) and Certification Maintenance Requirements (CMRs),” of Boeing 757 MPD Document, D622N001-9; and Boeing TR 09-011, dated November 2010, to Section 9, “Airworthiness Limitations (AWLs) and Certification Maintenance Requirements (CMRs),” of the Boeing 757 MPD Document, D622N001-9; are the acceptable revisions that have been approved after June 12, 2008 (the effective date of AD 2008-10-11). No AMOC approval is needed to use any of those three documents. We have revised paragraph (h) of this AD accordingly, and also paragraphs (k), (l), (m), and (n) of this AD (paragraphs (l), (m), (n), and (o) of the NPRM (76 FR 19710, April 8, 2011)) to reference all three MPD revisions that are acceptable for compliance with the requirements of this AD.

No change is necessary for paragraph (g) of this AD, because paragraph (k) of this AD (paragraph (l) of the NPRM (76 FR 19710, April 8, 2011)) (which terminates the requirements of paragraph (g) of this AD) has been revised to include those three MPD revisions.

Also, no change is necessary to paragraph (i) of this AD, because that paragraph does not reference service information. The paragraph clarifies that after accomplishing paragraphs (g) and (h) of this AD (except as required by paragraphs (k) and (l) of this AD respectively), no alternative inspections, inspection intervals, or critical design configuration control limitations (CDCCLs) are acceptable unless approved in accordance with the procedures specified in paragraph (s) of this AD.

Since we have included the MPD revision that was proposed as credit by paragraph (s) of the NPRM (76 FR 19710, April 8, 2011) as an MPD revision that is acceptable for compliance with this AD, we have deleted paragraph (s) of the NPRM (and re-identified paragraph (t) of the NPRM as paragraph (r)(2) of this AD) from this AD.

We do not agree that any revision to paragraph (r)(2) of this AD (paragraph (t) of the NPRM (76 FR 19710, April 8, 2011)) is necessary. Paragraph (r)(2) of this AD gives credit for a certain revision of the MPD for paragraphs (m) and (n) of this AD (paragraphs (n) and (o) of the NPRM), which are not a part of the existing actions of AD 2008-10-11, Amendment 39-15517 (73 FR 25974, May 8, 2008). We have not revised this AD in this regard.

Request To Revise Wording in Certain AWLs

UAL requested that wording in certain AWLs that refer to “later revisions” of component maintenance manuals (CMMs) be removed. UAL noted that the FAA removed references to “a later revision” of Section 9 of the Boeing 757 MPD Document, D622N001-9 (referenced as Boeing TR 09-008, dated March 2008, to Section 9, “Airworthiness Limitations (AWLs) and Certification Maintenance Requirements (CMRs),” of the Boeing 757 MPD Document, D622N001-9, in AD 2008-10-11, Amendment 39-15517 (73 FR 25974, May 8, 2008)), to be consistent with FAA policy and with Office of the Federal Register regulations for approving materials that are incorporated by reference. UAL stated that section 51.1(f) of the Code of Federal Regulations (1 CFR 51.1(f)) prohibits the incorporation by reference of future amendments or revisions of publications, and because specific revisions of the Boeing 757 MPD Document, D622N001-9, are incorporated by reference into the Federal Register, UAL believed that the MPD should also omit language referring to future revisions of CMMs.

We disagree with the request. Paragraphs (g)(3) and (k)(3) (paragraph (l)(3) of the NPRM (76 FR 19710, April 8, 2011)) of this AD do not require operators to comply with applicable AWLs, but instead, require operators to incorporate applicable AWLs into their maintenance program. Once those applicable AWLs are incorporated into the operators' maintenance programs, operators are in compliance with paragraphs (g)(3) and (k)(3) of this AD. Compliance with the condition defined in each AWL is required by section 91.403(c) of the Federal Aviation Regulations (14 CFR 91.403(c)) as stated in Note 1 of the NPRM (76 FR 19710, April 8, 2011). Because this AD does not mandate compliance with the AWLs, any documents specified in the AWLs are not incorporated by reference in the Federal Register, and therefore, section 51.1(f) of the Code of Federal Regulations (1 CFR 51.1(f)) does not apply. We have not changed this AD in this regard.

Request To Clarify Differences Between Paragraphs (l)(3), (i), and (p) of the NPRM (76 FR 19710, April 8, 2011)

UAL requested further clarification in regards to paragraphs (i), (l)(3), and (p) of the NPRM (76 FR 19710, April 8, 2011). UAL noted that certain AWLs contain reference to later revisions of component maintenance manuals (CMMs). However, paragraphs (i) and (p) of the NPRM state that once certain AWLs are incorporated into the maintenance program, “no alternative inspections, intervals, or CDCCLs may be used unless * * * approved as an AMOC * * *.” Given this restriction, UAL believes that as long as certain AWLs specify “later revisions” of certain documents, it would not be possible to comply with paragraphs (i) and (p) of the NPRM. UAL also asked if every future revision of a CMM approved by the Seattle ACO would require separate AMOC approval to satisfy the requirements of paragraphs (i) and (p) of the NPRM.

We agree to provide clarification. There is no conflict between the requirements of paragraph (k)(3) of this AD (paragraph (l)(3) of the NPRM (76 FR 19710, April 8, 2011)) and paragraphs (i) and (o) of this AD. Paragraphs (i) and (o) (paragraphs (i) and (p) of the NPRM) of this AD prohibit the use of an alternative inspection, inspection interval, or CDCCL unless it is approved as an AMOC. The intent of paragraphs (i) and (o) of this AD is to prohibit the use of an alternative AWL without AMOC approval, as each AWL defines an inspection, inspection interval, or CDCCL. If an operator desires to use an alternative AWL, such as an AWL defined in an MPD revision that is different from those specified in paragraphs (g)(3) and (k)(3) of this AD, that operator must obtain AMOC approval to use that alternative AWL, as required by paragraphs (i) and (o) of this AD. Once operators incorporate the AWLs required by this AD or alternative AWLs that have been approved as an AMOC into their maintenance program, they are in compliance with the requirements of paragraphs (g)(3) and (k)(3) of this AD, as applicable. After incorporation of the AWLs, operators are required to comply with each AWL by 14 CFR 91.403(c). Operators are in compliance with those AWLs as long as they use CMM revisions that have been approved by the Seattle ACO. Therefore, separate AMOC approval is not necessary to use CMM revisions that have been approved by the Seattle ACO. We have not changed this AD in this regard.

Request To Consolidate Paragraphs (i) and (p) of the NPRM (76 FR 19710, April 8, 2011)

UAL requested that we consolidate paragraphs (i) and (p) of the NPRM (76 FR 19710, April 8, 2011) into a single paragraph. UAL stated that it found what it considers to be an overlap between paragraphs (i) and (p) of the NPRM. UAL suggested that consolidating the paragraphs would streamline the AD and reduce confusion for operators.

We disagree. Paragraph (i) of this AD is a part of the restatement of the existing requirements of AD 2008-10-11, Amendment 39-15517 (73 FR 25974, May 8, 2008), and is for the restated requirements of paragraphs (g) and (h) of this AD. Paragraph (o) of this AD (paragraph (p) of the NPRM (76 FR 19710, April 8, 2011)) is part of the new requirements of this superseding AD, and is intended to be effective once the revision required by paragraph (k) of this AD is done. We have not changed this AD in this regard. However, we have clarified paragraph (i) of this AD by noting that doing the actions required by paragraph (k) of this AD is an exception to the requirements of paragraph (i) of this AD.

Request To Consolidate the Credit Paragraphs

UAL requested that we consolidate paragraphs (j), (s), and (t) of the NPRM (76 FR 19710, April 8, 2011) into a single paragraph. UAL requested this action for the convenience of providing operators a single paragraph to reference. In an example that UAL provided, UAL suggested combining paragraphs (j) and (s) of the NPRM into one sub-paragraph with the same effective date of June 12, 2008, and paragraph (t) of the NPRM as the other sub-paragraph with an effective date of “before the effective date of this AD.”

We partially agree. Paragraph (s) of the NPRM (76 FR 19710, April 8, 2011) has been deleted as previously discussed. Paragraphs (j) and (t) of the NPRM can be consolidated. We have removed paragraph (j) of the NPRM, re-identified subsequent paragraphs, and relocated the information from paragraph (j) of the NPRM to paragraph (r)(1) of this AD. The information in paragraph (t) of the NPRM is now in paragraph (r)(2) of this AD.

Request To Clarify or Revise the Effective Dates in Regards to a Certain Revision Level of the MPD Document

UAL requested that we revise a sentence in paragraph (h) of the NPRM (76 FR 19710, April 8, 2011) that reads “After the effective date of this AD, only * * * may be used” to allow 6 months before requiring operators to use the current revision of the MPD when complying with the initial inspection requirements of paragraph (h) of the NPRM. UAL noted that paragraph (h) of the NPRM proposed to require use of Boeing TR 09-010, dated July 2010, to Section 9, “Airworthiness Limitations (AWLs) and Certification Maintenance Requirements (CMRs),” of Boeing 757 MPD Document, D622N001-9, immediately after the effective date of the AD, while paragraph (l) of the NPRM would have allowed 6 months to incorporate the Boeing TR 09-010, dated July 2010, to Section 9, “Airworthiness Limitations (AWLs) and Certification Maintenance Requirements (CMRs),” of Boeing 757 MPD Document, D622N001-9, into the maintenance program. UAL is concerned about the effect that such a short compliance time could have on airplanes on which the operator started the initial inspection (using a previous revision of the MPD) before the effective date of the AD and completes the inspection after the effective date of the AD.

We agree to revise paragraph (h) of this AD to allow 6 months after the effective date of this AD before operators are required to do initial inspections using Section 9, “Airworthiness Limitations (AWLs) and Certification Maintenance Requirements (CMRs),” of the Boeing 757 MPD Document, D622N001-9, Revision December 2008; Boeing TR 09-010, dated July 2010, to Section 9, “Airworthiness Limitations (AWLs) and Certification Maintenance Requirements (CMRs),” of Boeing 757 MPD Document, D622N001-9; or Boeing TR 09-011, dated November 2010, to Section 9, “Airworthiness Limitations (AWLs) and Certification Maintenance Requirements (CMRs),” of the Boeing 757 MPD Document, D622N001-9. This change would make paragraphs (h) and (k) of this AD more consistent with each other.

Request To Confirm Existence of Paragraph (h)(2) of the NPRM (76 FR 19710, April 8, 2011)

UAL stated that it could not confirm the existence of paragraph (h)(2) of the NPRM (76 FR 19710, April 8, 2011).

We agree to provide clarification. Paragraph (h)(1)(ii) of this AD (paragraph (h)(2) of the NPRM (76 FR 19710, April 8, 2011)), along with paragraphs (h)(1)(i) and (h)(1)(iii) of this AD (paragraphs (h)(1) and (h)(3) of the NPRM), are located within table 1 to paragraph (h)(1) of this AD. We have not changed this AD in this regard.

Request To Allow Use of Certain Hot Short Protectors (HSPs)

UAL requested the addition of a paragraph to the NPRM (76 FR 19710, April 8, 2011) that would allow the use of an HSP that passed a functional test described in a manufacturer's CMM. UAL noted that paragraph (r) of the NPRM discusses AWL No. 28-AWL-22, which specifies that a new unit be used during replacement of the HSP. UAL stated that Goodrich's CMM stated that the HSP is not repairable, however, the inclusion of a functional test procedure seems to indicate that an HSP can be used if it passes the functional test.

We disagree. AWL No. 28-AWL-22 as specified in the Boeing 757 MPD Document revisions required by paragraph (k)(3) of this AD (paragraph (l)(3) of the NPRM (76 FR 19710, April 8, 2011)) specifies the use of a new HSP. An operator's failure to comply with that AWL would be a violation of section 91.403(c) of the Federal Aviation Regulations (14 CFR 91.403(c)). However, if an operator wants to incorporate an alternative AWL that allows for use of an HSP unit that passed a functional test, that operator may request an AMOC under the provisions of paragraph(s) of this AD. We have not changed this AD in this regard.

Request To Revise Instead of Supersede

UAL asked why the FAA is proposing to supersede AD 2008-10-11, Amendment 39-15517 (73 FR 25974, May 8, 2008) instead of revising that AD. UAL listed 18 revised ADs that address the same subject for different model airplanes. UAL stated that superseding an AD drives many AMOC requests and could also set up “compliance traps.”

We disagree. This AD requires new actions in addition to those originally required by AD 2008-10-11, Amendment 39-15517 (73 FR 25974, May 8, 2008), while the other ADs that UAL listed do not require any additional action. When additional actions must be mandated, we supersede the existing AD instead of revising the AD. No change to this AD has been made in this regard.

Explanation of Other Changes Made to This AD

We have re-designated Note 4 of the NPRM (76 FR 19710, April 8, 2011) as paragraph (k)(4) of this AD. We have also reviewed Note 4 of the NPRM and determined that the reference to paragraph (k) of this AD may be removed. Paragraph (k)(4) of this AD is intended to clarify that this AD does not require rework of components that had been maintained using acceptable methods before the revisions of the maintenance program, as originally required by paragraph (g) of AD 2008-10-11, Amendment 39-15517 (73 FR 25974, May 8, 2008).

We have redesignated Note 1 of the NPRM (76 FR 19710, April 8, 2011) as paragraph (c)(2) of this AD, and paragraph (c) of the NPRM as paragraph (c)(1) of this AD.

We have revised the paragraph structure of paragraph (h) of this AD. Paragraphs (h), (h)(1), (h)(2), and (h)(3) of the NPRM (76 FR 19710, April 8, 2011) are reidentified as paragraphs (h)(1), (h)(1)(i), (h)(1)(ii), and (h)(1)(iii) of this AD, respectively. We have also revised the heading of table 1 of the NPRM for more orderly codification within the Code of Federal Regulations.

We have redesignated Notes 2 and 3 of the NPRM (76 FR 19710, April 8, 2011) as paragraphs (h)(2), and (h)(3) of this AD, respectively.

We have revised certain headers throughout this AD.

We have revised the wording in paragraphs (r)(1) and (r)(2) of this AD (paragraphs (j) and (t) of the NPRM (76 FR 19710, April 8, 2011); this change has not changed the intent of these paragraphs.

We have corrected the definition of the term “MPD document” throughout this AD; this change does not affect the intent of any requirement in this AD.

Conclusion

We reviewed the relevant data, considered the comments received, and determined that air safety and the public interest require adopting the AD with the changes described previously and minor editorial changes. We have determined that these minor changes:

• Are consistent with the intent that was proposed in the NPRM (76 FR 19710, April 8, 2011) for correcting the unsafe condition; and

• Do not add any additional burden upon the public than was already proposed in the NPRM (76 FR 19710, April 8, 2011).

We also determined that these changes will not increase the economic burden on any operator or increase the scope of the AD.

Costs of Compliance

There are about 990 airplanes of the affected design in the worldwide fleet. The following table provides the estimated costs for U.S. operators to comply with this AD.

Estimated Costs
Action | Work hours | Average labor rate per hour | Cost per airplane | Number of U.S.-registered airplanes | Fleet cost
AWLs revision (required by AD 2008-10-11, Amendment 39-15517 (73 FR 25974, May 8, 2008)) | 8 | $85 | $680 | 639 | $434,520
Inspections (required by AD 2008-10-11) | 8 | 85 | 680 | 639 | 434,520
AWLs revision (new required action) | 1 | 85 | 85 | 639 | 54,315

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2008-10-11, Amendment 39-15517 (73 FR 25974, May 8, 2008), and adding the following new AD:

2012-12-15 The Boeing Company: Amendment 39-17095; Docket No. FAA-2011-0304; Directorate Identifier 2011-NM-103-AD.

(a) Effective Date

This airworthiness directive (AD) is effective August 27, 2012.

(b) Affected ADs

This AD supersedes AD 2008-10-11, Amendment 39-15517 (73 FR 25974, May 8, 2008). Certain requirements of this AD terminate certain requirements of AD 2008-11-07, Amendment 39-15529 (73 FR 30755, May 29, 2008); AD 2008-06-03, Amendment 39-15415 (73 FR 13081, March 12, 2008); and AD 2009-06-20, Amendment 39-15857 (74 FR 12236, March 24, 2009).

(c) Applicability

(1) This AD applies to all The Boeing Company Model 757-200, -200PF, -200CB, and -300 series airplanes, certificated in any category.

(2) This AD requires revisions to certain operator maintenance documents to include new actions (e.g., inspections) and/or critical design configuration control limitations (CDCCLs). Compliance with these actions and/or CDCCLs is required by 14 CFR 91.403(c). For airplanes that have been previously modified, altered, or repaired in the areas addressed by these inspections, the operator may not be able to accomplish the actions described in the revisions. In this situation, to comply with 14 CFR 91.403(c), the operator must request approval of an alternative method of compliance (AMOC) according to paragraph(s) of this AD. The request should include a description of changes to the required actions that will ensure the continued operational safety of the airplane.

(d) Subject

Air Transport Association (ATA) of America Code 28: Fuel.

(e) Unsafe Condition

This AD results from a design review of the fuel tank systems. The Federal Aviation Administration is issuing this AD to prevent the potential for ignition sources inside fuel tanks caused by latent failures, alterations, repairs, or maintenance actions, which, in combination with flammable fuel vapors, could result in a fuel tank explosion and consequent loss of the airplane.

(f) Compliance

You are responsible for having the actions required by this AD performed within the compliance times specified, unless the actions have already been done.

(g) Retained Revision of Airworthiness Limitations (AWLs) Section

This paragraph restates the requirements of paragraph (g) of AD 2008-10-11, Amendment 39-15517 (73 FR 25974, May 8, 2008). Before December 16, 2008, revise the AWLs section of the Instructions for Continued Airworthiness (ICA) by incorporating the information in the subsections specified in paragraphs (g)(1) through (g)(3) of this AD into the maintenance planning data (MPD) document; except that the initial inspections specified in table 1 to paragraph (h)(1) of this AD must be done at the compliance times specified in table 1 to paragraph (h)(1) of this AD. Accomplishing the requirements of paragraph (k) of this AD terminates the requirements of this paragraph.

(1) Subsection E, “AIRWORTHINESS LIMITATIONS—FUEL SYSTEMS,” of Boeing Temporary Revision (TR) 09-008, dated March 2008, to Section 9, “Airworthiness Limitations (AWLs) and Certification Maintenance Requirements (CMRs),” of the Boeing 757 MPD Document, D622N001-9.

(2) Subsection F, “PAGE FORMAT: SYSTEMS AIRWORTHINESS LIMITATIONS,” of Boeing TR 09-008, dated March 2008, to Section 9, “Airworthiness Limitations (AWLs) and Certification Maintenance Requirements (CMRs),” of the Boeing 757 MPD Document, D622N001-9.

(3) Subsection G, “AIRWORTHINESS LIMITATIONS—FUEL SYSTEM AWLs,” AWLs No. 28-AWL-01 through No. 28-AWL-24 inclusive, of Boeing TR 09-008, dated March 2008, to Section 9, “Airworthiness Limitations (AWLs) and Certification Maintenance Requirements (CMRs),” of the Boeing 757 MPD Document, D622N001-9. As an optional action, AWLs No. 28-AWL-25 and No. 28-AWL-26, as identified in Subsection G of Boeing TR 09-008, dated March 2008, to Section 9, “Airworthiness Limitations (AWLs) and Certification Maintenance Requirements (CMRs),” of the Boeing 757 MPD Document, D622N001-9, also may be incorporated into the AWLs section of the ICA.

(h) Retained Initial Inspections and Repair, With Revised Service Information

(1) This paragraph restates the requirements of paragraph (h) of AD 2008-10-11, Amendment 39-15517 (73 FR 25974, May 8, 2008). Do the inspections specified in table 1 to paragraph (h)(1) of this AD at the compliance time identified in table 1 to paragraph (h)(1) of this AD, and repair any discrepancy, in accordance with Subsection G of Boeing TR 09-008, dated March 2008, to Section 9, “Airworthiness Limitations (AWLs) and Certification Maintenance Requirements (CMRs),” of the Boeing 757 MPD Document, D622N001-9; Section 9, “Airworthiness Limitations (AWLs) and Certification Maintenance Requirements (CMRs),” of the Boeing 757 MPD Document, D622N001-9, Revision December 2008; Boeing TR 09-010, dated July 2010, to Section 9, “Airworthiness Limitations (AWLs) and Certification Maintenance Requirements (CMRs),” of Boeing 757 MPD Document, D622N001-9; or Boeing TR 09-011, dated November 2010, to Section 9, “Airworthiness Limitations (AWLs) and Certification Maintenance Requirements (CMRs),” of the Boeing 757 MPD Document, D622N001-9; except as required by paragraph (n) of this AD. The repair must be done before further flight. Accomplishing the inspections identified in table 1 to paragraph (h)(1) of this AD as part of a maintenance program before the applicable compliance time specified in table 1 paragraph (h)(1) of this AD constitutes compliance with the requirements of this paragraph. As of 6 months after the effective date of this AD, only Section 9, “Airworthiness Limitations (AWLs) and Certification Maintenance Requirements (CMRs),” of the Boeing 757 MPD Document, D622N001-9, Revision December 2008; Boeing TR 09-010, dated July 2010, to Section 9, “Airworthiness Limitations (AWLs) and Certification Maintenance Requirements (CMRs),” of Boeing 757 MPD Document, D622N001-9; or Boeing TR 09-011, dated November 2010, to Section 9, “Airworthiness Limitations (AWLs) and Certification Maintenance Requirements (CMRs),” of the Boeing 757 MPD Document, D622N001-9; may be used.

Table 1 to Paragraph (h)(1) of This AD—Initial Inspections
AWL No. | Description | Compliance time (whichever occurs later): Threshold | Compliance time (whichever occurs later): Grace period
(i) 28-AWL-01 | A detailed inspection of external wires over the center fuel tank for damaged clamps, wire chafing, and wire bundles in contact with the surface of the center fuel tank | Within 120 months since the date of issuance of the original standard airworthiness certificate or the date of issuance of the original export certificate of airworthiness | Within 72 months after June 12, 2008 (the effective date of AD 2008-10-11, Amendment 39-15517 (73 FR 25974, May 8, 2008)).
(ii) 28-AWL-03 | A special detailed inspection of the lightning shield to ground termination on the out-of-tank fuel quantity indicating system to verify functional integrity | Within 120 months since the date of issuance of the original standard airworthiness certificate or the date of issuance of the original export certificate of airworthiness | Within 24 months after June 12, 2008.
(iii) 28-AWL-14 | A special detailed inspection of the fault current bond of the fueling shutoff valve actuator of the center wing tank to verify electrical bond | Within 120 months since the date of issuance of the original standard airworthiness certificate or the date of issuance of the original export certificate of airworthiness | Within 60 months after June 12, 2008.

(2) For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

(3) For the purposes of this AD, a special detailed inspection is: “An intensive examination of a specific item, installation, or assembly to detect damage, failure, or irregularity. The examination is likely to make extensive use of specialized inspection techniques and/or equipment. Intricate cleaning and substantial access or disassembly procedure may be required.”

(i) No Alternative Inspections, Inspection Intervals, or CDCCLs for Paragraphs (g) and (h) of This AD

Except as required by paragraph (k) of this AD, after accomplishing the actions specified in paragraphs (g) and (h) of this AD, no alternative inspections, inspection intervals, or CDCCLs may be used unless the inspections, intervals, or CDCCLs are approved as an AMOC in accordance with the procedures specified in paragraph (s) of this AD.

(j) Terminating Action for AD 2008-06-03, Amendment 39-15415 (73 FR 13081, March 12, 2008)

Incorporating AWLs No. 28-AWL-23, No. 28-AWL-24, and No. 28-AWL-25 into the AWLs section of the ICA in accordance with paragraph (g)(3) of this AD or the maintenance program in accordance with paragraph (k)(3) of this AD terminates the action required by paragraph (h)(2) of AD 2008-06-03, Amendment 39-15415 (73 FR 13081, March 12, 2008).

(k) New Revision of Airworthiness Limitations (AWLs) Section

Within 6 months after the effective date of this AD, revise the maintenance program by incorporating the information in the subsections specified in paragraphs (k)(1) through (k)(3) of this AD. Accomplishing the actions required by this paragraph terminates the requirements of paragraph (g) of this AD.

(1) Subsection E, “AIRWORTHINESS LIMITATIONS—FUEL SYSTEMS,” of Section 9, “Airworthiness Limitations (AWLs) and Certification Maintenance Requirements (CMRs),” of the Boeing 757 MPD Document, D622N001-9, Revision December 2008; Boeing TR 09-010, dated July 2010, to Section 9, “Airworthiness Limitations (AWLs) and Certification Maintenance Requirements (CMRs),” of Boeing 757 MPD Document, D622N001-9; or Boeing TR 09-011, dated November 2010, to Section 9, “Airworthiness Limitations (AWLs) and Certification Maintenance Requirements (CMRs),” of the Boeing 757 MPD Document, D622N001-9.

(2) Subsection F, “PAGE FORMAT: FUEL SYSTEMS AIRWORTHINESS LIMITATIONS,” of Section 9, “Airworthiness Limitations (AWLs) and Certification Maintenance Requirements (CMRs),” of the Boeing 757 MPD Document, D622N001-9, Revision December 2008; Boeing TR 09-010, dated July 2010, to Section 9, “Airworthiness Limitations (AWLs) and Certification Maintenance Requirements (CMRs),” of Boeing 757 MPD Document, D622N001-9; or Boeing TR 09-011, dated November 2010, to Section 9, “Airworthiness Limitations (AWLs) and Certification Maintenance Requirements (CMRs),” of the Boeing 757 MPD Document, D622N001-9.

(3) Subsection G, “AIRWORTHINESS LIMITATIONS—FUEL SYSTEM AWLs,” AWLs No. 28-AWL-01 through No. 28-AWL-26 inclusive, of Section 9, “Airworthiness Limitations (AWLs) and Certification Maintenance Requirements (CMRs),” of the Boeing 757 MPD Document, D622N001-9, Revision December 2008; Boeing TR 09-010, dated July 2010, to Section 9, “Airworthiness Limitations (AWLs) and Certification Maintenance Requirements (CMRs),” of Boeing 757 MPD Document, D622N001-9; or Boeing TR 09-011, dated November 2010, to Section 9, “Airworthiness Limitations (AWLs) and Certification Maintenance Requirements (CMRs),” of the Boeing 757 MPD Document, D622N001-9.

(4) Notwithstanding any other maintenance or operational requirements, components that have been identified as airworthy or installed on the affected airplanes before the revision of the maintenance program, as required by paragraph (g) of this AD, do not need to be reworked in accordance with the CDCCLs. However, once the maintenance program has been revised, future maintenance actions on these components must be done in accordance with the CDCCLs.

(l) Compliance Time for AWL No. 28-AWL-03

The initial compliance time for AWL No. 28-AWL-03 of Section 9, “Airworthiness Limitations (AWLs) and Certification Maintenance Requirements (CMRs),” of the Boeing 757 MPD Document, D622N001-9, Revision December 2008; Boeing TR 09-010, dated July 2010, to Section 9, “Airworthiness Limitations (AWLs) and Certification Maintenance Requirements (CMRs),” of Boeing 757 MPD Document, D622N001-9; or Boeing TR 09-011, dated November 2010, to Section 9, “Airworthiness Limitations (AWLs) and Certification Maintenance Requirements (CMRs),” of the Boeing 757 MPD Document, D622N001-9; is within 120 months since the date of issuance of the original standard airworthiness certificate or the date of issuance of the original export certificate of airworthiness, or within 24 months after the effective date of this AD, whichever occurs later. Accomplishing the actions required by this paragraph terminates the requirements of paragraph (h)(2) of this AD.

(m) Initial Inspection Compliance Times for AWL No. 28-AWL-25

The initial inspection compliance time for AWL No. 28-AWL-25 of Section 9, “Airworthiness Limitations (AWLs) and Certification Maintenance Requirements (CMRs),” of the Boeing 757 MPD Document, D622N001-9, Revision December 2008; Boeing TR 09-010, dated July 2010, to Section 9, “Airworthiness Limitations (AWLs) and Certification Maintenance Requirements (CMRs),” of Boeing 757 MPD Document, D622N001-9; or Boeing TR 09-011, dated November 2010, to Section 9, “Airworthiness Limitations (AWLs) and Certification Maintenance Requirements (CMRs),” of the Boeing 757 MPD Document, D622N001-9; is within 72 months after accomplishing Boeing Service Bulletin 757-28A0088.

(n) Initial Inspection Compliance Times for AWL No. 28-AWL-26

The initial inspection compliance time for AWL No. 28-AWL-26 of Section 9, “Airworthiness Limitations (AWLs) and Certification Maintenance Requirements (CMRs),” of the Boeing 757 MPD Document, D622N001-9, Revision December 2008; Boeing TR 09-010, dated July 2010, to Section 9, “Airworthiness Limitations (AWLs) and Certification Maintenance Requirements (CMRs),” of Boeing 757 MPD Document, D622N001-9; or Boeing TR 09-011, dated November 2010, to Section 9, “Airworthiness Limitations (AWLs) and Certification Maintenance Requirements (CMRs),” of the Boeing 757 MPD Document, D622N001-9; is within 12 months after accomplishing Boeing Service Bulletin 757-28A0105.

(o) No Alternative Inspections, Inspection Intervals, or CDCCLs After the Actions Required by Paragraph (k) of This AD Are Done

After accomplishing the actions specified in paragraph (k) of this AD, no alternative inspections, inspection intervals, or CDCCLs may be used unless the inspections, intervals, or CDCCLs are approved as an AMOC in accordance with the procedures specified in paragraph (s) of this AD.

(p) Terminating Action for AD 2008-11-07, Amendment 39-15529 (73 FR 30755, May 29, 2008)

Incorporating AWLs No. 28-AWL-20 and No. 28-AWL-26 into the maintenance program in accordance with paragraph (k)(3) of this AD terminates the actions required by paragraphs (j) and (m) of AD 2008-11-07, Amendment 39-15529 (73 FR 30755, May 29, 2008).

(q) Terminating Action for AD 2009-06-20, Amendment 39-15857 (74 FR 12236, March 24, 2009)

Incorporating AWL No. 28-AWL-22 into the maintenance program in accordance with paragraph (k)(3) of this AD terminates the actions required by paragraph (h) of AD 2009-06-20, Amendment 39-15857 (74 FR 12236, March 24, 2009).

(r) Credit for Previous Actions

(1) This paragraph provides credit for actions required by paragraphs (g) and (h) of this AD, if those actions were done before June 12, 2008 (the effective date of AD 2008-10-11, Amendment 39-15517 (73 FR 25974, May 8, 2008), using Section 9, “Airworthiness Limitations (AWLs) and Certification Maintenance Requirements (CMRs),” of the Boeing 757 MPD Document, D622N001-9, Revision March 2006; Revision October 2006; Revision January 2007; or Revision November 2007.

(2) This paragraph provides credit for actions required by paragraphs (m) and (n) of this AD, if those actions were done before the effective date of this AD, using Boeing TR 09-008, dated March 2008, to Section 9, “Airworthiness Limitations (AWLs) and Certification Maintenance Requirements (CMRs),” of the Boeing 757 MPD Document, D622N001-9.

(s) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be emailed to: 9-ANM-Seattle-ACO-AMOC-Requests@faa.gov.

(2) Before using any approved AMOC, notify your appropriate principal inspector, or lacking a principal inspector, the manager of the local flight standards district office/certificate holding district office.

(3) AMOCs approved previously for AD 2008-10-11, Amendment 39-15517 (73 FR 25974, May 8, 2008), are approved as AMOCs for the corresponding provisions of this AD.

(t) Related Information

For more information about this AD, contact Tak Kobayashi, Aerospace Engineer, Propulsion Branch, ANM-140S, FAA, Seattle ACO, 1601 Lind Avenue SW., Renton, Washington 98057-3356; phone: 425-917-6499; fax: 425-917-6590; email: takahisa.kobayashi@faa.gov.

(u) Material Incorporated by Reference

(1) The Director of the Federal Register approved the incorporation by reference (IBR) of the following service information under 5 U.S.C. 552(a) and 1 CFR part 51 on the date specified.

(2) You must use the following service information to do the actions required by this AD, unless the AD specifies otherwise.

(3) The following service information was approved for IBR on August 27, 2012.

(i) Section 9, “Airworthiness Limitations (AWLs) and Certification Maintenance Requirements (CMRs),” of the Boeing 757 Maintenance Planning Data (MPD) Document, D622N001-9, Revision December 2008.

(ii) Boeing Temporary Revision (TR) 09-010, dated July 2010, to Section 9, “Airworthiness Limitations (AWLs) and Certification Maintenance Requirements (CMRs),” of Boeing 757 MPD Document, D622N001-9. Boeing TR 09-010 is published as Section 9 of the Boeing 757 MPD Document, D622N001-9, Revision July 2010.

(iii) Boeing TR 09-011, dated November 2010, to Section 9, “Airworthiness Limitations (AWLs) and Certification Maintenance Requirements (CMRs),” of the Boeing 757 MPD Document, D622N001-9. Boeing TR 09-011 is published as Section 9 of the Boeing 757 MPD Document, D622N001-9, Revision November 2010.

(4) The following service information was approved for IBR on June 12, 2008 (73 FR 25974, May 8, 2008).

(i) Boeing TR 09-008, dated March 2008, to Section 9, “Airworthiness Limitations (AWLs) and Certification Maintenance Requirements (CMRs),” of the Boeing 757 MPD Document, D622N001-9. Boeing TR 09-008 is published as Section 9 of the Boeing 757 Maintenance Planning Data (MPD) Document, D622N001-9, Revision March 2008. The Boeing 757 MPD Document, D622N001-9, Revision March 2008, was incorrectly referred to in AD 2008-10-11, Amendment 39-15517 (73 FR 25974, May 8, 2008), as the “Boeing 757 Maintenance Planning Document (MPD) Document, D622N001-9, Revision March 2008.

(ii) Reserved.

(5) For service information identified in this AD, contact Boeing Commercial Airplanes, Attention: Data & Services Management, P.O. Box 3707, MC 2H-65, Seattle, Washington 98124-2207; telephone 206-544-5000, extension 1, fax 206-766-5680; Internet https://www.myboeingfleet.com.

(6) You may review copies of the service information at the FAA, Transport Airplane Directorate, 1601 Lind Avenue SW., Renton, Washington. For information on the availability of this material at the FAA, call 425-227-1221.

(7) You may also review copies of the service information that is incorporated by reference at the National Archives and Records Administration (NARA). For information on the availability of this material at an NARA facility, call 202-741-6030, or go to http://www.archives.gov/federal_register/code_of_federal_regulations/ibr_locations.html.

Issued in Renton, Washington, on June 6, 2012.
Michael Kaszycki,
Acting Manager, Transport Airplane Directorate, Aircraft Certification Service.

[FR Doc. 2012-17558 Filed 7-20-12; 8:45 am]

BILLING CODE 4910-13-P